DEPARTMENT OF AGRICULTURE

Forest Service

Proposed New Fee Site

AGENCY: Forest Service, USDA.

ACTION: Notice of new fee site.

SUMMARY: The Dakota Prairie Grasslands will be implementing a new $10 expanded amenity recreation fee for overnight camping at Coal Creek campground, described in the SUPPLEMENTARY INFORMATION of this notice. The Federal Recreation Lands Enhancement Act (Title VII, Pub. L. 108-447) directed the Secretary of Agriculture to publish a six-month advance notice in the Federal Register whenever new recreation fees are established.

DATES: The new fee will be implemented no earlier than six months following the publication of this notice, approximately January 28, 2022.

ADDRESSES: Dakota Prairie Grasslands, 2000 Miriam Circle, Bismarck, ND 58501

FOR FURTHER INFORMATION CONTACT: Jeff Ward, Regional Recreation Business Program Manager at 406-329-3587 or jeffrey.p.ward@usda.gov.

SUPPLEMENTARY INFORMATION: Coal Creek campground was constructed in 2014 to be ADA-accessible (Americans with Disabilities Act). It has two vault toilets, a solar-power potable water well, campfire rings, level parking pads with barriers, and a newly constructed trailhead with access to the popular Maah Daah Hey Trail. Fees are based on the level of amenities and services provided, cost of operation and maintenance, market assessment, and public comment. Funds collected from the new fee will be used for continued operation, maintenance, and future capital improvements. This new fee aligns the campground with other sites offering similar amenities and services.

This fee proposal was vetted through the U.S. Forest Service, Northern Region public involvement process which included announcement of the proposal in local and regional media outlets, on the Forest internet and social media sites, and briefing of federal and local elected officials. The results of these efforts were presented to the local Resource Advisory Committee (RAC) for evaluation and recommendation to implement the new recreation fee.

Reasonable fees, paid by users of these sites and services, will help ensure that the Grasslands can continue maintaining and improving recreation sites for future generations. A market analysis of surrounding recreation sites with similar amenities indicates that the proposed fees are comparable and reasonable.

Dated: July 23, 2021.
Jennifer Eberlien,
Associate Deputy Chief, National Forest System.

[FR Doc. 2021-16026 Filed 7-27-21; 8:45 am]

BILLING CODE 3411-15-P